DEPARTMENT OF DEFENSE

Department of the Navy

Notice of Public Meetings for the Draft Supplemental Environmental Impact Statement/Overseas Environmental Impact Statement for Northwest Training and Testing

AGENCY: Department of the Navy, DoD.

ACTION: Notice.

SUMMARY: Pursuant to section 102(2)(c) of the National Environmental Policy Act (NEPA) of 1969, as implemented by the Council on Environmental Quality, and Presidential Executive Order 12114, the Department of the Navy (DoN) has prepared and filed with the United States Environmental Protection Agency a draft supplement to the 2015 Northwest Training and Testing (NWTT) Final Environmental Impact Statement/Overseas Environmental Impact Statement (EIS/OEIS) to reassess the potential environmental impacts associated with conducting proposed ongoing and future military readiness activities within the NWTT Study Area, referred to as the “Study Area.” Military readiness activities include training and research, development, testing, and evaluation activities, referred to as “training and testing.” In the Draft Supplemental EIS/OEIS, the DoN evaluated new, relevant information, such as more recent marine mammal density data and new scientific information, and updated the environmental analyses as appropriate. The DoN prepared the Draft Supplemental EIS/OEIS to support the issuance of federal regulatory permits and authorizations under the Marine Mammal Protection Act and the Endangered Species Act. The DoN will consult with the National Marine Fisheries Service (NMFS) and United States Fish and Wildlife Service to renew these authorizations. Additionally, NMFS and the United States Coast Guard are cooperating agencies for this Supplemental EIS/OEIS.

The DoN's lead action proponent is Commander, United States Pacific Fleet. Additional action proponents include Naval Sea Systems Command and Naval Air Systems Command.

DATES: This notice announces the public review and comment period and the dates and locations of the public meetings, includes information about how the public can review and comment on the document, and provides supplementary information about the environmental planning effort. All comments must be postmarked or received online by May 28, 2019, for consideration in the Final Supplemental EIS/OEIS. Federal, state, and local agencies and officials and interested organizations and individuals are encouraged to provide comments on the Draft Supplemental EIS/OEIS during the public review and comment period or in person at one of the scheduled open house public meetings.

ADDRESSES: Public meetings will be held in an open-house format, with DoN representatives available to provide information and answer questions related to the Draft Supplemental EIS/OEIS. Open house public meetings will be held in Washington, Oregon, Northern California, and southeastern Alaska on the following dates and at the following locations:

1. April 24, 2019, 5:00 to 8:00 p.m., Hampton Inn Seattle/Everett Downtown Salish Room, 2931 W Marine View Drive, Everett, WA 98201-3927.

2. April 25, 2019, 5:00 to 8:00 p.m., Ridgetop Middle School Cafeteria, 10600 Hillsboro Drive NW, Silverdale, WA 98383-7713.

3. April 26, 2019, 5:00 to 8:00 p.m., Naval Elks Lodge #353, 131 E First Street, Port Angeles, WA 98362-2902.

4. April 29, 2019, 5:00 to 8:00 p.m., Astoria High School Student Commons, 1001 W Marine Drive, Astoria, OR 97103-5829.

5. April 30, 2019, 5:00 to 8:00 p.m., Newport Performing Arts Center Lobby, 777 W Olive Street, Newport, OR 97365-3725.

6. May 2, 2019, 5:00 to 8:00 p.m., Red Lion Hotel Eureka Ballroom, 1929 Fourth Street, Eureka, CA 95501-0725.

7. May 3, 2019, 5:00 to 8:00 p.m., Dana Grey Elementary School Multipurpose Room, 1197 Chestnut Street, Fort Bragg, CA 95437-4503.

8. May 8, 2019, 5:00 to 8:00 p.m., Ted Ferry Civic Center Naha and Alava Bays, 888 Venetia Avenue, Ketchikan, AK 99901-6561.

Attendees will be able to submit written comments any time during the open house public meetings. A stenographer will be available for attendees wishing to provide oral comments one-on-one. Equal weight will be given to oral and written comments. Comments may also be mailed to Naval Facilities Engineering Command Northwest, Attention: NWTT Supplemental EIS/OEIS Project Manager, 3730 N Charles Porter Ave., Building 385, Oak Harbor, WA 98278-3500, or electronically via the project website at www.NWTTEIS.com. All comments, written or oral, submitted during the public review and comment period from March 29, 2019, to May 28, 2019, will become part of the public record, and substantive comments will be addressed in the Final Supplemental EIS/OEIS. All comments must be postmarked or received online by May 28, 2019, for consideration in the Final Supplemental EIS/OEIS.

Concurrent with the NEPA public involvement process, the DoN is identifying additional consulting parties to participate in the Section 106 process under the National Historic Preservation Act regarding potential effects of the Proposed Action and alternatives on historic properties. Historic properties include districts, sites, buildings, structures, or objects listed or eligible for listing in the National Register of Historic Places. During each of the public meetings, an information station will be available where individuals can learn more about the Section 106 process.

Naval Facilities Engineering Command Northwest, Attention: NWTT Supplemental EIS/OEIS Project Manager, 3730 N. Charles Porter Avenue, Building 385, Oak Harbor, WA 98278-3500.

SUPPLEMENTARY INFORMATION: The Draft Supplemental EIS/OEIS was distributed to federal agencies and federally recognized tribes, with which the DoN consulted. Copies of the Draft Supplemental EIS/OEIS are available for public review at the following public locations:

1. Everett Main Library, 2702 Hoyt Avenue, Everett, WA 98201-3506.

2. Gig Harbor Library, 4424 Point Fosdick Drive NW, Gig Harbor, WA 98335-1700.

3. Jefferson County Library, Port Hadlock, 620 Cedar Avenue, Port Hadlock, WA 98339-5001.

4. Kitsap Regional Library, Poulsbo, 700 NE Lincoln Road, Poulsbo, WA 98370-7688.

5. Kitsap Regional Library, Sylvan Way (Bremerton), 1301 Sylvan Way, Bremerton, WA 98310-3466.

6. North Olympic Library System, Forks Branch, 171 S Forks Avenue, Forks, WA 98331-9023.

7. Lopez Island Library, 2225 Fisherman Bay Road, Lopez Island, WA 98261-8676.

8. Oak Harbor Public Library, 1000 SE Regatta Drive, Oak Harbor, WA 98277-3091.

9. Port Angeles Main Library, 2210 S Peabody Street, Port Angeles, WA 98362-6536.

10. Port Townsend Public Library, 1220 Lawrence Street, Port Townsend, WA 98368-6527.

11. San Juan Island Library, 1010 Guard Street, Friday Harbor, WA 98250-9240.

12. Timberland Regional Library, Aberdeen, 121 E Market Street, Aberdeen, WA 98520-5216.

13. Timberland Regional Library, Hoquiam, 420 Seventh Street, Hoquiam, WA 98550-3616.

14. Astoria Public Library, 450 10th Street, Astoria, OR 97103-4602.

15. Driftwood Public Library, 801 SW Highway 101 #201, Lincoln City, OR 97367-2720.

16. Newport Public Library, 35 NW Nye Street, Newport, OR 97365-3714.

17. Oregon State University, Guin Library Hatfield Marine Science Center, 2030 SE Marine Science Drive, Newport, OR 97365-5300.

18. Tillamook Main Library, 1716 Third Street, Tillamook, OR 97141-2124.

19. Fort Bragg Branch Library, 499 Laurel Street, Fort Bragg, CA 95437-3511.

20. Humboldt County Public Library, Arcata Branch Library, 500 Seventh Street, Arcata, CA 95521-6315.

21. Humboldt County Public Library, Eureka Main Library, 1313 Third Street, Eureka, CA 95501-0546.

22. Redwood Coast Senior Center, 490 N Harold Street, Fort Bragg, CA 95437-3331.

23. Juneau Public Library, Downtown Branch, 292 Marine Way, Juneau, AK, 99801-1361.

24. Ketchikan Public Library, 1110 Copper Ridge Lane, Ketchikan, AK 99901-6250.

The NWTT Draft Supplemental EIS/OEIS is available for electronic viewing or download at www.NWTTEIS.com. A compact disc of the Draft Supplemental EIS/OEIS will be made available upon written request by contacting: Naval Facilities Engineering Command Northwest, Attention: NWTT Supplemental EIS/OEIS Project Manager, 3730 N. Charles Porter Avenue., Building 385, Oak Harbor, WA 98278-3500.

Dated: March 22, 2019.
M.S. Werner,
Commander, Judge Advocate General's Corps, U.S. Navy, Federal Register Liaison Officer.

[FR Doc. 2019-05891 Filed 3-28-19; 8:45 am]

BILLING CODE 3810-FF-P